DEPARTMENT OF COMMERCE

National Institute of Standards and Technology

Computer System Security and Privacy Advisory Board; Meeting

AGENCY: National Institute of Standards and Technology, Commerce.

ACTION: Notice of meeting.

SUMMARY: Pursuant to the Federal Advisory Committee Act, 5 U.S.C. App., notice is hereby given that the Computer System Security and Privacy Advisory Board (CSSPAB) will meet Monday, December 4, 2000, and Tuesday, December 5, 2000, from 9 a.m. until 5 p.m. and Wednesday, December 6, 2000, from 9 a.m. until 12 p.m. The Advisory Board was established by the Computer Security Act of 1987 (Public Law 100-235) to advise the Secretary of Commerce and the Director of NIST on security and privacy issues pertaining to federal computer systems. All sessions will be open to the public. Details regarding the Board's activities are available at http://csrc.nist.gov/csspab/.

DATES: The meeting will be held on December 4 and 5, 2000, from 9 a.m. until 5 p.m. and on December 6, 2000, from 9 a.m. until 12 p.m.

ADDRESSES: The meeting will take place at the Microsoft Corporation, Olympic Room 27/1810, Building 27, 1 Microsoft Way, Redmond, WA.

Agenda:

• Welcome and Overview

• Legislative Updates

• Review of NIST Computer Security Program Activities

• Security Metrics Issues and Recommendations

• Privacy Awareness Plan of Action Discussion

• Security Governance Discussion

• Board Work Plan Follow-On

• Internet Security Briefing

• Public Participation

• Agenda Development for March 2000 meeting

• Wrap-Up

Note that agenda items may change without notice because of possible unexpected schedule conflicts of presenters.

Public Participation: The Board agenda will include a period of time, not to exceed thirty minutes, for oral comments and questions from the public. Each speaker will be limited to five minutes. Members of the public who are interested in speaking are asked to contact the Board Secretariat at the telephone number indicated below. In addition, written statements are invited and may be submitted to the Board at any time. Written statements should be directed to the CSSPAB Secretariat, Information Technology Laboratory, 100 Bureau Drive, Stop 8930, National Institute of Standards and Technology, Gaithersburg, MD 20899-8930. It would be appreciated if 35 copies of written material were submitted for distribution to the Board and attendees no later than December 1, 2000. Approximately 15 seats will be available for the public and media.

FOR FURTHER INFORMATION CONTACT: Mr. Edward Roback, Board Secretariat, Information Technology Laboratory, National Institute of Standards and Technology, 100 Bureau Drive, Stop 8930, Gaithersburg, MD 20899-8930, telephone: (301) 975-3696.

Dated: November 15, 2000.
Karen H. Brown,
Deputy Director, NIST.

[FR Doc. 00-29753 Filed 11-20-00; 8:45 am]

BILLING CODE 3510-CN-M